DEPARTMENT OF EDUCATION

Notice of Submission for OMB Review

AGENCY: Department of Education.

ACTION: Comment request.

SUMMARY: The Acting Director, Information Collection Clearance Division, Privacy, Information and Records Management Services, Office of Management, invites comments on the submission for OMB review as required by the Paperwork Reduction Act of 1995 (Pub. L. 104-13).

DATES: Interested persons are invited to submit comments on or before July 21, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: June 16, 2011.
James Hyler,
Acting Director, Information Collection Clearance Division, Privacy, Information and Records Management Services, Office of Management.

Institute of Education Sciences

Type of Review: Revision.

Title of Collection: Program for International Student Assessments (PISA) 2012 Main Study.

OMB Control Number: 1850-0755.

Agency Form Number(s): N/A.

Frequency of Responses: Annually.

Affected Public: Individuals or households.

Total Estimated Number of Annual Responses: 15,744.

Total Estimated Annual Burden Hours: 8,888.

Abstract: The Program for International Student Assessment (PISA) is an international assessment that focuses on 15-year-olds' capabilities in reading, mathematics, and science literacy. It was first implemented by the National Center for Education Statistics (NCES) in 2000 and has been administered every 3 years since. This submission is for the fifth cycle in the series, PISA 2012, and requests OMB approval for the main study recruitment and data collection, and for student contact information collection for a future follow-up study. As in 2003, in PISA 2012, mathematics will be the major subject domain. The field test will also include computer-based assessments in reading, science, and general problem solving, and an assessment of financial literacy in a paper-and-pencil format. In addition to assessment data, PISA provides background information on school context and student demographics to benchmark performance and inform policy. School recruitment for the field test will begin in September 2011 with data collection beginning in September 2012. NCES will submit to OMB the final versions of the main study data collection instruments in March 2012.

Copies of the information collection submission for OMB review may be accessed from the RegInfo.gov Web site at http://www.reginfo.gov/public/do/PRAMain or from the Department's website at http://edicsweb.ed.gov, by selecting the “Browse Pending Collections” link and by clicking on link number 4650. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-15417 Filed 6-20-11; 8:45 am]

BILLING CODE 4000-01-P